DEPARTMENT OF LABOR

Employment and Training Administration

[TA-W-54,774]

T & W Tool and Die Corp., Oak Park, MI; Notice of Termination of Investigation

Pursuant to section 221 of the Trade Act of 1974, as amended, an investigation was initiated on April 23, 2004, in response to a petition filed by a company official on behalf of workers at T & W Tool and Die Corporation, Oak Park, Michigan.

The petitioner has requested that the petition be withdrawn. Consequently, the investigation has been terminated.

Signed at Washington, DC, this 17th day of May, 2004.
Richard Church,
Certifying Officer, Division of Trade Adjustment Assistance.

[FR Doc. 04-12634 Filed 6-3-04; 8:45 am]

BILLING CODE 4510-30-P